DEPARTMENT OF HOMELAND SECURITY

U.S. Citizenship and Immigration Services

[CIS No. 2576-15; DHS Docket No. USCIS-2014-0003]

RIN 1615-ZB45

Extension of the Designation of Sudan for Temporary Protected Status

AGENCY: U.S. Citizenship and Immigration Services, Department of Homeland Security.

ACTION: Notice.

SUMMARY: Through this Notice, the Department of Homeland Security (DHS) announces that the Secretary of Homeland Security (Secretary) is extending the designation of Sudan for Temporary Protected Status (TPS) for 18 months, from May 3, 2016 through November 2, 2017.

The extension allows currently eligible TPS beneficiaries to retain TPS through November 2, 2017, so long as they otherwise continue to meet the eligibility requirements for TPS. The Secretary has determined that an extension is warranted because the conditions in Sudan that prompted the 2013 TPS redesignation continue to be met. Sudan continues to experience ongoing armed conflict and extraordinary and temporary conditions within the country that prevent its nationals from returning to Sudan in safety.

Through this Notice, DHS also sets forth procedures necessary for eligible nationals of Sudan (or aliens having no nationality who last habitually resided in Sudan) to re-register for TPS and to apply for renewal of their Employment Authorization Documents (EADs) with U.S. Citizenship and Immigration Services (USCIS). Re-registration is limited to persons who have previously registered for TPS under the designation of Sudan and whose applications have been granted. Certain nationals of Sudan (or aliens having no nationality who last habitually resided in Sudan) who have not previously applied for TPS may be eligible to apply under the late initial registration provisions if they meet (1) at least one of the late initial filing criteria, and (2) all TPS eligibility criteria (including continuous residence in the United States since January 9, 2013, and continuous physical presence in the United States since May 3, 2013).

For individuals who have already been granted TPS under Sudan's designation, the 60-day re-registration period runs from January 25, 2016 through March 25, 2016. USCIS will issue new EADs with a November 2, 2017 expiration date to eligible Sudan TPS beneficiaries who timely re-register and apply for EADs under this extension. Given the timeframes involved with processing TPS re-registration applications, DHS recognizes that not all re-registrants will receive new EADs before their current EADs expire on May 2, 2016. Accordingly, through this Notice, DHS automatically extends the validity of EADs issued under the TPS designation of Sudan for 6 months, through November 2, 2016, and explains how TPS beneficiaries and their employers may determine which EADs are automatically extended and their impact on Employment Eligibility Verification (Form I-9) and the E-Verify processes.

DATES: The 18-month extension of the TPS designation of Sudan is effective May 3, 2016, and will remain in effect through November 2, 2017. The 60-day re-registration period runs from January 25, 2016 through March 25, 2016. (Note: It is important for re-registrants to timely re-register during this 60-day period and not to wait until their EADs expire.)

FOR FURTHER INFORMATION CONTACT:

• For further information on TPS, including guidance on the application process and additional information on eligibility, please visit the USCIS TPS Web page at http://www.uscis.gov/tps.

You can find specific information about Sudan's TPS extension by selecting “Sudan” from the menu on the left side of the TPS Web page.

• For questions concerning this FRN, you can also contact the U.S. Citizenship and Immigration Services, Department of Homeland Security, 20 Massachusetts Avenue NW, Washington, DC 20529-2060; or by phone at (202) 272-1533 (this is not a toll-free number). Note: The phone number provided here is solely for questions regarding this TPS Notice. It is not for individual case status inquires.

• Applicants seeking information about the status of their individual cases can check Case Status Online, available at the USCIS Web site at https://egov.uscis.gov/casestatus/landing.do or call the USCIS National Customer Service Center at 800-375-5283 (TTY 800-767-1833).

• Further information will also be available at local USCIS offices upon publication of this Notice.

SUPPLEMENTARY INFORMATION:

Table of Abbreviations

BIA Board of Immigration Appeals

DHS Department of Homeland Security

DOS Department of State

EAD Employment Authorization Document

FNC Final Nonconfirmation

Government U.S. Government

GOS Government of Sudan

IDP Internally Displaced Person

IJ Immigration Judge

INA Immigration and Nationality Act

NGO Non-Governmental Organizations

OCHA UN Office for the Coordination of Humanitarian Affairs

OSC U.S. Department of Justice, Office of Special Counsel for Immigration-Related Unfair Employment Practices

SAF Sudanese Armed Forces

SAVE USCIS Systematic Alien Verification for Entitlements Program

Secretary Secretary of Homeland Security

SPLM-N Sudan People's Liberation Movement-North

TNC Tentative Nonconfirmation

TPS Temporary Protected Status

TTY Text Telephone

UN United Nations

USCIS U.S. Citizenship and Immigration Services

UNICEF UN International Children's Emergency Fund

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States, may not be removed, and are authorized to work and obtain EADs so long as they continue to meet the requirements of TPS.

• TPS beneficiaries may also apply for and be granted travel authorization as a matter of discretion.

• The granting of TPS does not result in or lead to permanent resident status.

• To qualify for TPS, beneficiaries must meet the eligibility standards at INA section 244(c)(2), 8 U.S.C. 1254a(c)(2).

• When the Secretary terminates a country's TPS designation, beneficiaries return to the same immigration status they maintained before TPS, if any (unless that status has since expired or been terminated), or to any other lawfully obtained immigration status they received while registered for TPS.

When was Sudan designated for TPS?

On November 4, 1997, the Attorney General designated Sudan for TPS due to ongoing armed conflict and extraordinary and temporary conditions within Sudan. See Designation of Sudan Under Temporary Protected Status, 62 FR 59737 (Nov. 4, 1997). Following the initial designation, the Attorney General and, later, the Secretary have extended TPS and/or redesignated Sudan for TPS a total of 14 times. In 2013, the Secretary both extended Sudan's designation and redesignated Sudan for TPS for 18 months through November 2, 2014. See Extension and Redesignation of Sudan for Temporary Protected Status, 78 FR 1872 (Jan. 9, 2013). This announcement is the second extension of the TPS designation for Sudan since the 2013 extension and redesignation.

What authority does the Secretary have to extend the designation of Sudan for TPS?

Section 244(b)(1) of the INA, 8 U.S.C. 1254a(b)(1), authorizes the Secretary, after consultation with appropriate agencies of the U.S. Government (Government), to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12, or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

Why is the Secretary extending the TPS designation for Sudan through November 2, 2017?

DHS and the Department of State (DOS) have reviewed conditions in Sudan. Based on the reviews and after consulting with DOS, the Secretary has determined that an 18-month extension is warranted because the conditions supporting Sudan's designation for TPS continue to exist.

The political and humanitarian situation in Sudan continues to be volatile and dangerous with internal armed conflicts in Darfur and in the Two Areas (South Kordofan and Blue Nile states). Reports of violations and abuses of human rights and violations of international humanitarian law persist, with those reports indicating that such violations and abuses have been largely perpetrated by the Sudanese government forces and pro-government militias against civilians.

Since 2003, the Government of Sudan (GOS) and armed opposition groups have fought in Darfur. In 2014, the GOS deployed a new paramilitary force in Darfur known as the Rapid Support Forces, after which displacement in the region increased. This upsurge correlated with the GOS' declared “Decisive Summer Campaign” that began in April 2014, through which the GOS sought to eradicate all armed rebellion within the country. The campaign was renewed in December 2014 and has continued into 2015, with the GOS proclaiming expected widespread civilian displacement, especially within the Two Areas.

In its 12th year, the Darfur conflict is widespread and unpredictable. Darfur has witnessed an increase in criminal activity and intertribal conflict. Clashes between the Sudanese Armed Forces (SAF) and armed opposition groups, as well as intertribal fighting, displaced approximately 430,000 people in 2014. The United Nations (UN) Office for the Coordination of Humanitarian Affairs (OCHA) reported that an estimated 143,000 persons were displaced between January and May 2015, bringing the total number of internally displaced persons (IDPs) in the Darfur region to approximately 2.5 million.

In the Two Areas, the SAF continued to fight the Sudan People's Liberation Movement-North (SPLM-N) for control over towns, military strongholds, and supply routes. According to Amnesty International, Sudanese forces have employed indiscriminate aerial bombardment and shelling of villages in the region. The SAF reportedly has carried out sustained aerial bombardments in and around Kauda, a major town in Heiban County, as well as aerial bombardments and shelling in Um Dorein and Delami counties, destroying schools, clinics, hospitals, and other buildings, and forcing people to flee their homes. Reports indicated an estimated 1.7 million IDPs in both government and SPLM-N controlled territories, roughly half of the total population in both areas. In March 2015, OCHA reported that, due to the ongoing armed conflict, at least 250,000 Sudanese had fled from the Two Areas to South Sudan and Ethiopia.

A determination of the status of the disputed Abyei area remains elusive. The governments of Sudan and South Sudan withdrew their forces from Abyei in 2012. The UN Interim Security Force for Abyei maintains an uneasy peace, but the potential for a return to violence remains.

Reports of human rights violations and abuses in Sudan are widespread, including those involving extrajudicial and other unlawful killings. The GOS continued to abuse members of certain populations, including journalists, political opposition, civil society, and ethnic and religious minority groups.

Sudan's operating environment for non-governmental organizations (NGOs) remains challenging primarily because of restrictions or bans on NGO operations and the movements of their workers, particularly in the conflict-affected areas of Darfur and the Two Areas. The GOS' “Decisive Summer Campaign” has also eroded the existing but limited health services in the Two Areas.

UN figures indicate that approximately 6.9 million people are in need of humanitarian assistance in Sudan. According to the UN International Children's Emergency Fund (UNICEF), Sudan continues to be one of the worst crises for children in the world today. There are 3.24 million children targeted for humanitarian assistance by the UN's Humanitarian Response Plan in 2015. UNICEF reported that approximately 2 million children are suffering from malnutrition, of which approximately 550,000 are suffering from severe acute malnutrition.

Based upon this review and after consultation with appropriate Government agencies, the Secretary has determined that:

• The conditions that prompted the 2013 redesignation of Sudan for TPS continue to be met. See INA section 244(b)(3)(A) and (C), 8 U.S.C. 1254a(b)(3)(A) and (C).

• There continues to be ongoing armed conflict in Sudan and, due to such conflict, requiring the return of Sudanese nationals (or aliens having no nationality who last habitually resided in Sudan) to Sudan would pose a serious threat to their personal safety. See INA section 244(b)(1)(A), 8 U.S.C. 1254a(b)(1)(A).

• There continue to be extraordinary and temporary conditions in Sudan that prevent Sudanese nationals (or aliens having no nationality who last habitually resided in Sudan) from returning to Sudan in safety. See INA section 244(b)(1)(C), 8 U.S.C. 1254a(b)(1)(C).

• It is not contrary to the national interest of the United States to permit Sudanese nationals (or aliens having no nationality who last habitually resided in Sudan) who meet the eligibility requirements of TPS to remain in the United States temporarily. See INA section 244(b)(1)(C), 8 U.S.C. 1254a(b)(1)(C).

• The designation of Sudan for TPS should be extended for an 18-month period from May 3, 2016 through November 2, 2017. See INA section 244(b)(3)(C), 8 U.S.C. 1254a(b)(3)(C).

• There are approximately 450 current Sudan TPS beneficiaries who are expected to file for re-registration under the extension.

Notice of Extension of the TPS Designation of Sudan

By the authority vested in me as Secretary under INA section 244, 8 U.S.C. 1254a, I have determined, after consultation with the appropriate Government agencies, that the conditions that prompted the redesignation of TPS for Sudan in 2013 continue to be met. See INA section 244(b)(3)(A), 8 U.S.C. 1254a(b)(3)(A). On the basis of this determination, I am extending the existing designation of TPS for Sudan for 18 months, from May 3, 2016 through November 2, 2017. See INA section 244(b)(1)(A), (b)(1)(C) and (b)(2), 8 U.S.C. 1254a(b)(1)(A), (b)(1)(C), and (b)(2).

Jeh Charles Johnson,
Secretary.

Required Application Forms and Application Fees To Register or Re-Register for TPS

To register or re-register for TPS based on the designation of Sudan, you must submit each of the following applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17.

2. Application for Employment Authorization (Form I-765).

• If you are applying for late initial registration and want an EAD, you must pay the fee for the Application for Employment Authorization (Form I-765) only if you are age 14 through 65. You do not need to pay the Application for Employment Authorization (Form I-765) fee if you are under the age of 14 or are 66 and older, applying for late initial registration and you want an EAD.

• If you are applying for re-registration, you must pay the fee for the Application for Employment Authorization (Form I-765), regardless of your age, if you want an EAD.

• You do not pay the fee for the Application for Employment Authorization (Form I-765) if you are not requesting an EAD, regardless of whether you are applying for late initial registration or re-registration.

You must submit both completed application forms together. If you are unable to pay the application forms fee and/or biometrics fee, you may complete a Request for Fee Waiver (Form I-912) or submit a personal letter requesting a fee waiver with satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b).

Biometric Services Fee

Biometrics (such as fingerprints) are required for all applicants 14 years and older. Those applicants must submit a biometric services fee. As previously stated, if you are unable to pay for the biometric services fee, you may complete a Request for Fee Waiver (Form I-912) or submit a personal letter requesting a fee waiver with satisfactory supporting documentation. For more information on the biometric services fee, please visit the USCIS Web site at http://www.uscis.gov. If necessary, you may be required to visit an Application Support Center to have your biometrics captured.

Re-Filing a Re-Registration TPS Application After Receiving a Denial of a Fee Waiver Request

You should file as soon as possible within the 60-day re-registration period so USCIS can process your application and issue any EAD promptly. Filing early will also allow you to have time to re-file your application before the deadline, should USCIS deny your fee waiver request. If, however, you receive a denial of your fee waiver request and are unable to re-file by the re-registration deadline, you may still re-file your application. This situation will be reviewed to determine whether you established good cause for late re-registration. However, you are urged to re-file within 45 days of the date on any USCIS fee waiver denial notice, if possible. See INA section 244(c)(3)(C); 8 U.S.C. 1254a(c)(3)(C); 8 CFR 244.17(c). For more information on good cause for late re-registration, visit the USCIS TPS Web page at http://www.uscis.gov/tps.

Note: Although a re-registering TPS beneficiary age 14 and older must pay the biometric services fee (but not the initial TPS application fee) when filing a TPS re-registration application, you may decide to wait to request an EAD, and therefore not pay the Application for Employment Authorization (Form I-765) fee until after USCIS has approved your TPS re-registration, if you are eligible. If you choose to do this, you would file the Application for Temporary Protected Status (Form I-821) with the fee and the Application for Employment Authorization (Form I-765) without the fee and without requesting an EAD.

Mailing Information

Mail your application for TPS to the proper address in Table 1.

Table 1—Mailing Addresses
If . . . | Mail to . . .
You are applying through the U.S. Postal Service | USCIS, Attn: TPS Sudan, P.O. Box 6943, Chicago, IL 60680-6943.
You are using a non-U.S. Postal Service delivery service | USCIS, Attn: TPS Sudan, 131 S. Dearborn Street, 3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When submitting a re-registration and/or requesting an EAD based on an IJ/BIA grant of TPS, please include a copy of the IJ or BIA order granting you TPS with your application. This will aid in the verification of your grant of TPS and processing of your application, as USCIS may not have received records of your grant of TPS by either the IJ or the BIA. To get additional information, including the email address of the appropriate Service Center, you may go to the USCIS TPS Web page at http://www.uscis.gov/tps.

E-Filing

You cannot electronically file your application when re-registering or submitting an initial registration for Sudan TPS. Please mail your application to the mailing address listed in Table 1.

Supporting Documents

The filing instructions on the Application for Temporary Protected Status (Form I-821) list all the documents needed to establish basic eligibility for TPS. You must also submit two color passport-style photographs of yourself. You may also find information on the acceptable documentation and other requirements for applying or registering for TPS on the USCIS Web site at www.uscis.gov/tps under “Sudan.”

Do I need to submit additional supporting documentation?

If one or more of the questions listed in Part 4, Question 2 of the Application for Temporary Protected Status (Form I-821) applies to you, then you must submit an explanation on a separate sheet(s) of paper and/or additional documentation.

Employment Authorization Document (EAD)

How can I obtain information on the status of my EAD request?

To get case status information about your TPS application, including the status of a request for an EAD, you can check Case Status Online at http://www.uscis.gov, or call the USCIS National Customer Service Center at 800-375-5283 (TTY 800-767-1833). If your Application for Employment Authorization (Form I-765) has been pending for more than 90 days, and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through November 2, 2016?

Provided that you currently have TPS under the designation of Sudan, this Notice automatically extends your EAD by 6 months if you:

• Are a national of Sudan (or an alien having no nationality who last habitually resided in Sudan);

• Received an EAD under the last extension of TPS for Sudan; and

• Have an EAD with a marked expiration date of May 2, 2016, bearing the notation “A-12” or “C-19” on the face of the card under “Category.”

Although this Notice automatically extends your EAD through November 2, 2016, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of being hired, you must present proof of identity and employment authorization to your employer.

You may present any document from List A (reflecting both your identity and employment authorization) or one document from List B (reflecting identity) together with one document from List C (reflecting employment authorization). An EAD is an acceptable document under “List A.” You may present an acceptable receipt for a List A, List B, or List C document as described in the Employment Eligibility Verification (Form I-9) Instructions. An acceptable receipt is one that shows an employee has applied to replace a document that was lost, stolen or damaged. If you present an acceptable receipt, you must present your employer with the actual document within 90 days. Employers may not reject a document based on a future expiration date.

If your EAD has an expiration date of May 2, 2016, and states “A-12” or “C-19” under “Category,” it has been extended automatically for 6 months by virtue of this Federal Register Notice, and you may choose to present your EAD to your employer as proof of identity and employment authorization for Employment Eligibility Verification (Form I-9) through November 2, 2016 (see the subsection titled “How do my employer and I complete the Employment Eligibility Verification (Form I-9) using an automatically extended EAD for a new job?” for further information). To minimize confusion over this extension at the time of hire, you should explain to your employer that USCIS has automatically extended your EAD through November 2, 2016, based on your Temporary Protected Status. You are also strongly encouraged, although not required, to show your employer a copy of this Federal Register Notice confirming the automatic extension of employment authorization through November 2, 2016. As an alternative to presenting your automatically extended EAD, you may choose to present any other acceptable document from List A, or a combination of one selection from List B and one selection from List C.

What documentation may I show my employer if I am already employed but my current TPS-related EAD is set to expire?

Even though EADs with an expiration date of May 2, 2016, that state “A-12” or “C-19” under “Category” have been automatically extended for 6 months by this Federal Register Notice, your employer will need to ask you about your continued employment authorization once May 2, 2016 is reached to meet its responsibilities for Employment Eligibility Verification (Form I-9). Your employer does not need to complete a new Employment Eligibility Verification (Form I-9) to reverify your employment authorization until November 2, 2016, the expiration date of the automatic extension, but may need to reinspect your automatically extended EAD to check the expiration date and code to record the updated expiration date on your Employment Eligibility Verification (Form I-9) if your employer did not keep a copy of this EAD at the time you initially presented it. You and your employer must make corrections to the employment authorization expiration dates in Section 1 and Section 2 of Employment Eligibility Verification (Form I-9) (see the subsection titled “What corrections should my current employer and I make to Employment Eligibility Verification (Form I-9) if my EAD has been automatically extended?” for further information). You are also strongly encouraged, although not required, to show this Federal Register Notice to your employer to explain what to do for Employment Eligibility Verification (Form I-9).

By November 2, 2016, the expiration date of the automatic extension, your employer must reverify your employment authorization. At that time, you must present any unexpired document from List A or any unexpired document from List C on Employment Eligibility Verification (Form I-9) to reverify employment authorization, or an acceptable List A or List C receipt described in the Employment Eligibility Verification (Form I-9) instructions. Your employer is required to reverify on Employment Eligibility Verification (Form I-9) the employment authorization of current employees upon the automatically extended expiration date of a TPS-related EAD, which is November 2, 2016, in this case. Your employer should use either Section 3 of the Employment Eligibility Verification (Form I-9) originally completed for the employee or, if this section has already been completed or if the version of Employment Eligibility Verification (Form I-9) is no longer valid, complete Section 3 of a new Employment Eligibility Verification (Form I-9) using the most current version. Note that your employer may not specify which List A or List C document employees must present, and cannot reject an acceptable receipt. An acceptable receipt is one that shows an employee has applied to replace a document that was lost, stolen or damaged.

Can my employer require that I produce any other documentation to prove my current TPS status, such as proof of my Sudanese citizenship or proof that I have re-registered for TPS?

No. When completing Employment Eligibility Verification (Form I-9), including reverifying employment authorization, employers must accept any documentation that appears on the “Lists of Acceptable Documents” for Employment Eligibility Verification (Form I-9) that reasonably appears to be genuine and that relates to you or an acceptable List A, List B, or List C receipt. Employers may not request documentation that does not appear on the “Lists of Acceptable Documents.” Therefore, employers may not request proof of Sudanese citizenship or proof of re-registration for TPS when completing Employment Eligibility Verification (Form I-9) for new hires or reverifying the employment authorization of current employees. Refer to the “Note to Employees” section of this Notice for important information about your rights if your employer rejects lawful documentation, requires additional documentation, or otherwise discriminates against you based on your citizenship or immigration status, or your national origin. Note that although you are not required to provide your employer with a copy of this Federal Register Notice, you are strongly encouraged to do so to help avoid confusion.

What happens after November 2, 2016 for purposes of employment authorization?

After November 2, 2016, employers may no longer accept the EADs that this Federal Register Notice automatically extended. Before that time, however, USCIS will work to issue new EADs to eligible TPS re-registrants who request them. These new EADs should have an expiration date of November 2, 2017 and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job before November 2, 2016, you and your employer should do the following:

1. For Section 1, you should:

a. Check “An alien authorized to work;”

b. Write the automatically extended EAD expiration date (November 2, 2016) in the first space; and

c. Write your alien number (USCIS number or A-number) in the second space (your EAD or other document from DHS will have your USCIS number or A-number printed on it; the USCIS number is the same as your A-number without the A prefix).

2. For Section 2, employers should record the:

a. Document title;

b. Issuing authority;

c. Document number; and

d. Automatically extended EAD expiration date (November 2, 2016).

By November 2, 2016, employers must reverify the employee's employment authorization in Section 3 of the Employment Eligibility Verification (Form I-9).

What corrections should my current employer and I make to Employment Eligibility Verification (Form I-9) if my EAD has been automatically extended?

If you are an existing employee who presented a TPS-related EAD that was valid when you first started your job but that EAD has now been automatically extended, your employer may reinspect your automatically extended EAD if the employer does not have a photocopy of the EAD on file, and you and your employer should correct your previously completed Employment Eligibility Verification (Form I-9) as follows:

1. For Section 1, you should:

a. Draw a line through the expiration date in the first space;

b. Write “November 2, 2016” above the previous date;

c. Write “TPS Ext.” in the margin of Section 1; and

d. Initial and date the correction in the margin of Section 1.

2. For Section 2, employers should:

a. Draw a line through the expiration date written in Section 2;

b. Write “November 2, 2016” above the previous date;

c. Write “EAD Ext.” in the margin of Section 2; and

d. Initial and date the correction in the margin of Section 2.

By November 2, 2016, when the automatic extension of EADs expires, employers must reverify the employee's employment authorization in Section 3.

If I am an employer enrolled in E-Verify, what do I do when I receive a “Work Authorization Documents Expiration” alert for an automatically extended EAD?

If you are an employer who participates in E-Verify and you have an employee who is a TPS beneficiary who provided a TPS-related EAD when he or she first started working for you, you will receive a “Work Authorization Documents Expiring” case alert when this EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By November 2, 2016, employment authorization must be reverified in Section 3. Employers should never use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email I-9Central@dhs.gov. Calls and emails are accepted in English and many other languages. For questions about avoiding discrimination during the employment eligibility verification process, employers may also call the U.S. Department of Justice, Office of Special Counsel for Immigration-Related Unfair Employment Practices (OSC) Employer Hotline, at 800-255-8155 (TTY 800-237-2515), which offers language interpretation in numerous languages, or email OSC at osccrt@usdoj.gov.

Note to Employees

For general questions about the employment eligibility verification process, you may call USCIS at 888-897-7781 (TTY 877-875-6028) or email I-9Central@dhs.gov. Calls are accepted in English and many other languages. You may also call the OSC Worker Information Hotline at 800-255-7688 (TTY 800-237-2515) for information regarding employment discrimination based upon citizenship status, immigration status, or national origin, or for information regarding discrimination related to Employment Eligibility Verification (Form I-9) and E-Verify. The OSC Worker Information Hotline provides language interpretation in numerous languages.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or state government records.

Employers may not terminate, suspend, delay training, withhold pay, lower pay, or take any adverse action against you based on your decision to contest a TNC or because the case is still pending with E-Verify. A Final Nonconfirmation (FNC) case result is received when E-Verify cannot verify your employment eligibility. An employer may terminate employment based on a case result of FNC. Work-authorized employees who receive an FNC may call USCIS for assistance at 888-897-7781 (TTY 877-875-6028). If you believe you were discriminated against by an employer in the E-Verify process based on citizenship or immigration status or based on national origin, you may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your unexpired EAD;

(2) A copy of this Federal Register Notice if your EAD is automatically extended under this Notice;

(3) A copy of your Application for Temporary Protected Status Notice of Action (Form I-797) for this re-registration;

(4) A copy of your past or current Application for Temporary Protected Status Approval Notice (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “How to Correct Your Records” from the menu on the right.

[FR Doc. 2016-01387 Filed 1-22-16; 8:45 am]

BILLING CODE 9111-97-P